DEPARTMENT OF JUSTICE

Office of Justice Programs

[OJP (OJJDP) Docket No. 1578]

Meeting of the Federal Advisory Committee on Juvenile Justice

AGENCY: Office of Juvenile Justice and Delinquency Prevention, Department of Justice.

ACTION: Notice of meeting.

SUMMARY: The Office of Juvenile Justice and Delinquency Prevention has scheduled a meeting of the Federal Advisory Committee on Juvenile Justice (FACJJ).

DATES: Friday March 22nd, 2019 at 9:00 a.m.-4:30 p.m. EST.

ADDRESSES: The meeting will take place in the third floor video conference room at the U.S. Department of Justice, Office of Justice Programs, 810 7th St. NW, Washington, DC 20531.

FOR FURTHER INFORMATION CONTACT: Visit the website for the FACJJ at www.facjj.ojp.gov or contact Jeff Slowikowski, Designated Federal Official (DFO), OJJDP, by telephone at (202) 616-3646, email at jeff.slowikowski@usdoj.gov, or fax at (202) 353-9093; or Maegen Currie, Senior Program Manager/Federal Contractor, by telephone (732) 948-8862, email at maegen.currie@bixal.com, or fax at (866) 854-6619. Please note that the above phone/fax numbers are not toll free.

SUPPLEMENTARY INFORMATION: The Federal Advisory Committee on Juvenile Justice (FACJJ), established pursuant to Section 3(2)A of the Federal Advisory Committee Act (5 U.S.C. App.2), will meet to carry out its advisory functions under Section 223(f)(2)(C-E) of the Juvenile Justice and Delinquency Prevention Act of 2002. The FACJJ is composed of representatives from the states and territories. FACJJ member duties include: Reviewing Federal policies regarding juvenile justice and delinquency prevention; advising the OJJDP Administrator with respect to particular functions and aspects of OJJDP; and advising the President and Congress with regard to State perspectives on the operation of OJJDP and Federal legislation pertaining to juvenile justice and delinquency prevention. More information on the FACJJ may be found at www.facjj.ojp.gov. FACJJ meeting agendas are available on www.facjj.ojp.gov. Agendas will generally include: (a) Opening remarks and introductions; (b) Presentations and discussion; and (c) member announcements.

For security purposes and because space is limited, members of the public who wish to attend must register in advance of the meeting online at FACJJ Registration Site, no later than Friday March 15th, 2019. Should issues arise with online registration, or to register by fax or email, the public should contact Maegen Currie, Senior Program Manager/Federal Contractor (see above for contact information). If submitting registrations via fax or email, attendees should include all of the following: Name, Title, Organization/Affiliation, Full Address, Phone Number, Fax and Email. The meeting will also be available to join online via Webex, a video conferencing platform. Registration for this is also found online at FACJJ Registration Site.

Note: Photo identification will be required to attend the meeting at the OJP 810 7th Street Building.

Interested parties may submit written comments and questions in advance to Jeff Slowikowski (DFO) for the FACJJ, at the contact information above. If faxing, please follow up with Maegen Currie, Senior Program Manager/Federal Contractor (see above for contact information) in order to assure receipt of submissions. All comments and questions should be submitted no later than 5:00 p.m. EST on Friday March 15th, 2019.

The FACJJ will limit public statements if they are found to be duplicative. Written questions submitted by the public while in attendance will also be considered by the FACJJ.

Jeff Slowikowski,
Senior Advisor, Office of Juvenile Justice and Delinquency Prevention, Designated Federal Official, Federal Advisory Committee on Juvenile Justice.

[FR Doc. 2019-03667 Filed 2-28-19; 8:45 am]

BILLING CODE 4410-18-P